DEPARTMENT OF AGRICULTURE

Animal and Plant Health Inspection Service

[Docket No. APHIS-2007-0021]

Availability of an Environmental Assessment for a Field Test of Two Non-pathogenic, Genetically Engineered Strains of Burkholderia glumae

AGENCY: Animal and Plant Health Inspection Service, USDA.

ACTION: Notice.

SUMMARY: We are advising the public that the Animal and Plant Health Inspection Service has prepared an environmental assessment for a proposed field trial involving two genetically engineered strains of the bacterium Burkholderia glumae. Burkholderia glumae is a plant pathogen that causes panicle blight in rice. The purpose of this field test is to conduct experiments that will provide information on the pathogenicity of Burkholderia glumae and will assist in the development of control methods to reduce yield loss caused by panicle blight. We are making the environmental assessment available to the public for review and comment.

DATES: We will consider all comments that we receive on or before July 19, 2007.

ADDRESSES: You may submit comments by either of the following methods:

• Federal eRulemaking Portal: Go to http://www.regulations.gov, select “Animal and Plant Health Inspection Service” from the agency drop-down menu, then click “Submit.” In the Docket ID column, select APHIS-2007-0021 to submit or view public comments and to view supporting and related materials available electronically. Information on using Regulations.gov, including instruction for accessing documents, submitting comments, and viewing the docket after the close of the comment period, is available through the site's “User Tips” link.

• Postal Mail/Commercial Delivery: Please send four copies of your comment (an original and three copies) to Docket No. APHIS-2007-0021, Regulatory Analysis and Development, PPD APHIS, Station 3A-03.8, 4700 River Road Unit 118, Riverdale, MD 20737-1238. Please state that your comment refers to Docket No. APHIS-2007-0021.

Reading Room: You may read the environmental assessment (EA) and any comments we receive on the EA in our reading room. The reading room is located in room 1141 of the USDA South Building, 14th Street and Independence Avenue, SW., Washington, DC. Normal reading room hours are 8 a.m. to 4:30 p.m., Monday through Friday, except holidays. To be sure someone is there to help you, please call (202) 690 2817 before coming. The EA is available on the Internet at http://aphis.usda.gov/brs/aphisdocs/06_11101r_ea.pdf.

Other Information: Additional information about APHIS and its programs is available on the Internet at http://www.aphis.usda.gov.

FOR FURTHER INFORMATION CONTACT: Dr. Andrea Huberty, Biotechnology Regulatory Services, APHIS, 4700 River Road Unit 147, Riverdale, MD 20737-1236; (301) 734-0659. To obtain copies of the environmental assessment, contact Ms. Cynthia Eck at (301) 734-0667; e-mail: cynthia.a.eck@aphis.usda.gov.

SUPPLEMENTARY INFORMATION: The regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests. Such genetically engineered organisms and products are considered “regulated articles.” A permit must be obtained or a notification acknowledged before a regulated article may be introduced. The regulations set forth the permit application requirements and the notification procedures for the importation, interstate movement, or release in the environment of a regulated article.

On April 21, 2006, the Animal and Plant Health Inspection Service (APHIS) received a permit application (APHIS No. 06-111-01r) from Louisiana State University, in Baton Rouge, LA, for a field trial using strains of the bacterium Burkholderia glumae. Permit application 06-111-01r describes four Burkholderia glumae strains: Two wild-type strains, one of which is disease-causing and the other naturally non-pathogenic, endemic to the United States, and two genetically engineered, non-pathogenic strains that share the same avirulent phenotype. The transgenic strains were created by placing base pairs of a methyltransferase gene into the cloning vector. The introduced vector, along with the methyltransferase gene, will integrate into the bacterial chromosome by homologous recombination.

The subject Burkholderia glumae is considered a regulated article under the regulations in 7 CFR part 340 because it is the causal pathological agent of panicle blight in rice, a plant disease occurring in the United States.

To provide the public with documentation of APHIS' review and analysis of any potential environmental impacts and plant pest risks associated with the proposed release of these bacterial strains, we have prepared an environmental assessment (EA). The EA was prepared in accordance with (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The EA may be viewed on the Regulations.gov Web site or in our reading room. (Instructions for accessing Regulations.gov and information on the location and hours of the reading room are provided under the heading ADDRESSES at the beginning of this notice.) In addition, copies may be obtained by calling or writing to the individuals listed under FOR FURTHER INFORMATION CONTACT.

Authority: 7 U.S.C. 7701-7772 and 7781-7786; 31 U.S.C. 9701; 7 CFR 2.22, 2.80, and 371.3.

Done in Washington, DC, this 13th day of June 2007.
Kevin Shea,
Acting Administrator, Animal and Plant Health Inspection Service.

[FR Doc. E7-11813 Filed 6-18-07; 8:45 am]

BILLING CODE 3410-34-P